DEPARTMENT OF ENERGY

Federal Energy Regulatory Commission

[ Docket Nos. EG09-10-000, EG09-11-000, EG09-12-000, EG09-13-000, EG09-14-000, EG09-15-000, EG09-16-000, EG09-17-000]

Majestic Wind Power LLC, Enel Stillwater, LLC, NRG Texas Power LLC, FPL Energy Oliver Wind I, LLC, Bull Creek Wind LLC, Buffalo Ridge I LLC, Moraine Wind II LLC, Pebble Springs Wind LLC; Notice of Effectiveness of Exempt Wholesale Generator Status

February 27, 2009.

Take notice that during the month of January 2009, the status of the above-captioned entities as Exempt Wholesale Generators Companies became effective by operation of the Commission's regulations 18 CFR 366.7(a).

Kimberly D. Bose.
Secretary.

[FR Doc. E9-4723 Filed 3-4-09; 8:45 am]

BILLING CODE 6717-01-P